DEPARTMENT OF ENERGY

International Energy Agency Meeting

AGENCY: Department of Energy.

ACTION: Notice of meeting.

SUMMARY: A meeting involving members of the Industry Advisory Board (IAB) to the International Energy Agency (IEA) in connection with a meeting of the IEA's Emergency Response Exercise 2 Design Group will be held on February 1, 2002, at the headquarters of the IEA in Paris, France.

FOR FURTHER INFORMATION CONTACT: Samuel M. Bradley, Assistant General Counsel for International and National Security Programs, Department of Energy, 1000 Independence Avenue, SW., Washington, DC 20585, 202-586-6738.

SUPPLEMENTARY INFORMATION: In accordance with section 252(c)(1)(A)(i) of the Energy Policy and Conservation Act (42 U.S.C. 6272(c)(1)(A)(i)) (EPCA), the following notice of meeting is provided:

A meeting involving members of the Industry Advisory Board (IAB) to the International Energy Agency (IEA) in connection with a meeting of the IEA's Emergency Response Exercise 2 (ERE 2) Design Group will be held at the headquarters of the IEA, 9, rue de la Fédération, Paris, France, on February 1, 2002, beginning at approximately 9:15 a.m. The purpose of this notice is to permit attendance by representatives of U.S. company members of the IAB at the ERE 2 Design Group meeting. The purpose of this meeting is to develop scenarios for an oil supply disruption simulation exercise in connection with the IEA's Standing Group on Emergency Questions (SEQ), which is scheduled to be held at the IEA between March 12-14, 2002.

The Agenda for the meeting is under the control of the SEQ. It is expected that the SEQ will adopt the following Agenda:

Introductions

1. Introductions by the Chair.

2. Introduction by OME [IEA Secretariat Oil Markets and Emergency Preparedness staff]: Background and Objectives of IEA Objectives of Emergency Response Exercises.

3. Presentation of goals and objectives of the ERE 2 Simulation Exercise

Scenario Building: Oil Disruption Scenarios in the Wake of September 11, 2001.

4. Presentation on Scenario Building and Risk Assessments.

5. Discussion on Scenario Building for the ERE 2 Simulation Exercise.

Design Group Meeting on ERE 2 Training and Simulation Exercise

6. Discussion led by the Chair.

Points for Discussion include:

• Approve the half-day training agenda for distribution to the SEQ.

• Approve goals and objectives for scenario building for the Simulation Exercise.

• Approve agenda for the Simulation Exercise.

• Discussion on operational issues.

• Briefing on the outcome of the December 12, 2001, SEQ/SLT [Standing Group on Long-Term Cooperation] Inter-fuels Workshop.

7. Chairman's Conclusion.

As provided in section 252(c)(1)(A)(ii) of the Energy Policy and Conservation Act (42 U.S.C. 6272(c)(1)(A)(ii)), this meeting is open only to representatives of members of the IAB and their counsel, representatives of members of the SEQ, representatives of the Departments of Energy, Justice, and State, the Federal Trade Commission, the General Accounting Office, Committees of Congress, the IEA, and the European Commission, and invitees of the IAB, the SEQ, or the IEA.

Issued in Washington, DC, January 22, 2002.
Lee Liberman Otis,
General Counsel.

[FR Doc. 02-1979 Filed 1-24-02; 8:45 am]

BILLING CODE 6450-01-P